DEPARTMENT OF HEALTH AND HUMAN SERVICES

Centers for Disease Control and Prevention

[30Day-11-10FB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Developing a Sexual Consent Norms Instrument—New—National Center for Injury Prevention and Control (NCIPC), Centers for Disease Control and Prevention (CDC).

Background and Brief Description

Sexual violence prevention strategies are increasingly focusing on promoting positive behavioral norms such as safety, equality and respect in relationships. However, psychometrically validated measures do not exist for programs to use in evaluating their strategies. This project provides an opportunity to significantly contribute to the literature base and fill a gap in evaluation tools by developing a measure specific to consent norms for use in three populations: College students, late adolescents (ages 15-18) and early adolescents (ages 11-14). Sound measures of sexual consent norms will improve program evaluation efforts and potentially contribute to understanding of effective prevention strategies as well as the etiology of sexual violence perpetration.

The development of these measures will occur in four phases. All phases will consist of Asian, Black or African American, Hispanic or Latino and White students. Phase one will consist of multiple two-hour focus groups of 8-10 participants: 1 with prevention educators, 8 with college students, 8 with late adolescents (ages 15-18) and 8 with early adolescents (ages 11-14). Samples of college students and adolescents will include Asian, Black or African American, Hispanic or Latino, and White students. Half of the college student focus groups will be conducted with students who grew up in the United States; the other half will be conducted with students who came to the United States within the last five years. Focus group participants will be asked to comment on the proposed instruments relevant to their group. Prevention educators will comment on all three instruments. Comments will be used to refine the measures.

In phase two, 200 college students and 100 adolescents will complete the revised instrument appropriate to age group, plus a set of existing instruments that assess related variables, using online data collection methods.

Phase three will consist of multiple two-hour focus groups of 8-10 participants: 2 with prevention educators, 1 with college students, 1 with late adolescents (ages 15-18) and 1 with early adolescents (ages 11-14). Half of the college student focus groups will be conducted with students who grew up in the United States; the other half will be conducted with students who came to the United States in the last five years. All focus group participants will be asked to comment on data collected with the revised instruments in their age group. Prevention educators will be asked to comment on data from all age groups. Comments will be used to refine the instrument again, before administering it to larger samples.

In phase four, the refined instruments plus a set of existing instruments that assess related variables will be administered to 500 adolescents (200 early and 200 late). Data collection will occur via an online survey. These data will be used to examine the psychometric properties of the new instruments.

Findings will be used to demonstrate the adequacy of new instruments for use in racially and ethnically diverse populations of college student and adolescents by sexual assault prevention programs funded through the Rape Prevention and Education Program. There is no cost to respondents other than their time. The total estimated annual burden hours are 3005.

Estimated Annualized Burden Hours
Form name | Number of respondents | Number of responses per respondent | Average burden per response (hours)
Phase I: Focus Group of Prevention Educators | 10 | 1 | 3
Phase I: Focus Group of College Students | 80 | 1 | 2.5
Phase I: Focus Group of Late Adolescents | 80 | 1 | 3
Phase I: Focus Group of Early Adolescents | 80 | 1 | 3
Phase II: College Student Survey | 200 | 1 | 2
Phase II: Late Adolescent Survey | 50 | 1 | 2
Phase II: Early Adolescent Survey | 50 | 1 | 1
Phase III: Follow-up Focus Group of Prevention Educators | 20 | 1 | 3
Phase III: Follow-up Focus Group of College Students | 10 | 1 | 2.5
Phase III: Follow-up Focus Group of Late Adolescents | 10 | 1 | 3
Phase III: Follow-up Focus Group of Early Adolescents | 10 | 1 | 3
Phase IV: Confirmatory Survey of College Students | 500 | 1 | 2
Phase IV: Confirmatory Survey of Late Adolescents | 200 | 1 | 2
Phase IV: Confirmatory Survey of Early Adolescents | 200 | 1 | 1

Dated: January 25, 2011.
Carol E. Walker,
Acting Reports Clearance Officer, Centers for Disease Control and Prevention.

[FR Doc. 2011-2013 Filed 1-28-11; 8:45 am]

BILLING CODE 4163-18-P